FEDERAL COMMUNICATIONS COMMISSION

[CG Docket No. 03-123; DA 09-211]

Telecommunications Relay Service (TRS) Providers Requesting Compensation from the Interstate TRS Fund Must Comply with Standard Rounding Principles in Measuring the Conversation Time of TRS Calls

AGENCY: Federal Communications Commission.

ACTION: Notice.

SUMMARY: In this document, the Commission states that current rules require that telecommunications relay service (TRS) providers submitting minutes for payment from the Interstate TRS Fund must measure the conversation time of each call to the nearest second, and when the time for such calls is expressed in decimal form, the TRS provider must round the time to the nearest tenth of a minute.

DATES: Effective June 12, 2009.

FOR FURTHER INFORMATION CONTACT: Thomas Chandler, Consumer and Governmental Affairs Bureau, Disability Rights Office at (202) 418-1475 (Voice), (202) 418-0597 (TTY), or e-mail at Thomas.Chandler@fcc.gov.

SUPPLEMENTARY INFORMATION: This is a summary of the Commission's document DA 09-211, released February 10, 2009, addressing the proper accounting practice to be followed in rounding conversation minutes when seeking compensation for TRS service. Specifically, the Notice states that TRS providers must comply with standard rounding principles in measuring the conversation time of TRS calls. The full text of document DA 09-211 and copies of any subsequently filed documents in this matter will be available for public inspection and copying during regular business hours at the FCC Reference Information Center, Portals II, 445 12th Street, SW., Room CY-A257, Washington, DC 20554. Document DA 09-211 and copies of subsequently filed documents in this matter may also be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice), (202) 418-0432 (TTY). Document DA 09-211 can also be downloaded in Word or Portable Document Format (PDF) at: http://www.fcc.gov/cgb/dro.

Synopsis

It has come to the Commission's attention that certain telecommunications relay service (TRS) providers may be improperly “rounding” up conversation minutes that are submitted to the Interstate TRS Fund (Fund) each month for payment. Providers submitting minutes for payment from the Fund must measure the conversation time of each call to the nearest second, and when the time for such calls is expressed in decimal form, the relay provider must round the time to the nearest tenth of a minute, as set forth below.

Specifically, when recording the actual conversation time of each completed call, the decimal representation of the seconds should extend to the tenth of a minute; providers may round up only in those circumstances where the number in the hundredth place is 5 or greater. If the number in the hundredth place is not 5 or greater, then the number in the tenth place remains the same.

For example, if the actual conversation time is 34 minutes and 46 seconds, the decimal expression to the hundredth place is 34.76. Because the number in the hundredth place (6) is 5 or greater, the number in the tenth place (7) may be rounded up to 8. Therefore, the actual conversation time, rounded to the nearest one-tenth of a minute and used to calculate total monthly conversation minutes, is 34.8 minutes. A contrasting example, where rounding up is not appropriate, is a situation where the actual conversation time is 34 minutes and 32 seconds. For such a call, the decimal expression to the hundredth place is 34.53. Because the number in the hundredth place (3) is less than 5, the number in the tenth place (5) remains the same and the actual conversation time used to calculate total monthly conversation minutes is 34.5 minutes.

In determining total monthly conversation minutes reported to NECA, the total conversation minutes of all eligible calls (each measured to the tenth of a minute, as described above) are added together. That total is then rounded to the nearest whole number (full minute) under the same principle set forth above. For instance, if the total number of conversation minutes for all calls in a particular month is 123,456.8, that figure would be rounded up to 123,457. Similarly, if the figure was 123,456.4, the figure would be rounded down to 123,456.

For the past several years, NECA has provided TRS providers with instructions for reporting minutes. Interstate Telecommunications Relay Service (TRS) Fund Instructions for Reporting Minutes Monthly (August 2004) (Reporting Instructions). In the instructions, National Exchange Carrier Association (NECA), the Fund Administrator, advises that the actual conversation time of each completed call, in minutes/seconds or minutes/tenths, should be recorded during the month, and at the end of the month, the provider should total the minutes/seconds or minutes/tenths for each type of call by center and round to the nearest whole number. The Reporting Instructions provide examples of how these rounding principles apply in determining total monthly minutes, stating that: (1) A monthly total of 180,095 minutes and 41 seconds, or 180,095.68 minutes, would be rounded up to 180,096; and (2) a monthly total of 2,437 minutes and 15 seconds, or 2,437.25 minutes, would be rounded down to 2,437.

The examples set forth herein are consistent with these instructions and standard rounding principles.

Therefore, unless and until directed otherwise, TRS providers should follow the guidelines provided in NECA's Reporting Instructions and in this document.

Federal Communications Commission.
Suzanne M. Tetreault,
Acting Deputy Chief, Consumer and Governmental Affairs Bureau.

[FR Doc. E9-13718 Filed 6-11-09; 8:45 am]

BILLING CODE 6712-01-P